DEPARTMENT OF ENERGY

Federal Energy Regulatory Commission

[Docket No. RP02-254-001]

Columbia Gas Transmission Corporation; Notice of Compliance Filing

July 18, 2002.

Take notice that on July 15, 2002, Columbia Gas Transmission Corporation (Columbia) tendered for filing as part of its FERC Gas Tariff, Second Revised Volume No. 1, the following revised tariff sheets to become effective July 1, 2002:

Substitute Fifth Revised Sheet No. 575

Substitute Fifth Revised Sheet No. 585

Substitute Fourth Revised Sheet No. 581

Columbia Gas states that on May 1, 2002, it made a filing with the Commission to comply with Order No. 587-N (98 FERC ¶ 61,257 (2002)). The order amended the Commission's regulations to require pipelines to permit releasing shippers to recall released capacity and renominate such recalled capacity at each nomination opportunity. On June 28, 2002, the Commission approved the tariff sheets filed on May 1, 2002, but directed Columbia to make minor modifications. The tariff sheets in the instant filing reflect the changes mandated by the Commission.

Columbia states that copies of its filing have been served on Columbia's firm customers and affected state commissions.

Any person desiring to protest said filing should file a protest with the Federal Energy Regulatory Commission, 888 First Street, NE., Washington, DC 20426, in accordance with Section 385.211 of the Commission's Rules and Regulations. All such protests must be filed on or before July 25, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18681 Filed 7-23-02; 8:45 am]

BILLING CODE 6717-01-P